DEPARTMENT OF TRANSPORTATION

Federal Railroad Administration

[Docket No. FRA-2024-0013]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 4, 2024.

ADDRESSES: Written comments and recommendations for the proposed ICR should be submitted on regulations.gov to the docket, Docket No. FRA-2024-0013. All comments received will be posted without change to the docket, including any personal information provided. Please refer to the assigned OMB control number (2130-0635) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Report of Railroad Trespasser Form.

OMB Control Number: 2130-0635.

Abstract: Trespasser deaths on railroad rights-of-way and other railroad property are the leading cause of fatalities attributable to railroad operations in the United States. To address this serious issue, the railroad industry, governments (Federal, State, and local), and other interested parties must know more about the individuals who trespass and causes. With such knowledge, specific educational programs, materials, and messages regarding the hazards and consequences of trespassing on railroad property can be developed and effectively distributed. Due to the lack of available root cause data, FRA collects data from law enforcement agencies to develop general descriptions of the root causes of trespassing. This allows FRA and other interested parties, such as Operation Lifesaver, to target audiences with appropriate education and enforcement campaigns to reduce the resulting annual number of injuries and fatalities.

Completion and submission of form FRA F 6180.178, Report of Railroad Trespasser Form, is required for law enforcement agency grantees as a condition of FRA's Railroad Trespassing Enforcement Grant. Grantees complete the form for each trespasser incident in their jurisdiction, describing the trespassers' race/ethnicity, gender, and age to the best of their ability. For law enforcement agencies that do not receive FRA's Railroad Trespassing Enforcement grants, completion and submission of this form is voluntary.

FRA provides an electronic option where the respondents can respond via a web-based form. The web-based form also helps FRA maintain the data collected in a more useful and uniform manner, as the dropdown boxes facilitate more standardized responses.

In this 60-day notice, FRA made adjustments that reduced the previously approved burden hours from 550 hours to 350 hours. The decrease in burden is a result of the average time per response being reduced from 10 minutes to 8 minutes to provide a more accurate analysis of the time needed to complete the form. Additionally, FRA has updated form FRA F 6180.178 to comply with OMB's recent Statistical Policy Directive No. 15, Standards for Maintaining, Collecting, and Presenting Federal Data on Race and Ethnicity (SPD 15).¹

¹ Spd15revision.gov.

Type of Request: Extension without change (with changes in estimates) of a currently approved information collection.

Affected Public: Public authorities.

Form(s): FRA F 6180.178.

Respondent Universe: Law enforcement agencies.

Frequency of Submission: Monthly.

Reporting Burden
Form | Respondent universe | Total annual responses | Average time per response (minutes) | Total annual burden hours | Total cost equivalent
|  | (A) | (B) | (C = A * B) | (D = C * wage rate) ²
Report of Railroad Trespasser Form (Form FRA F 6180.178) | Law enforcement agencies, grantees | 2,500 forms | 8 | 333.30 | $20,184.65
| Law enforcement agencies, non-grantees | 100 forms | 10 | 16.70 | 1,011.35
Total ³ | Law enforcement agencies | 2,600 responses | N/A | 350 | 21,196

Total Estimated Annual Responses: 2,600.

² Source: U.S. Department of Labor, Bureau of Labor Statistics (BLS) Employer Cost for Employee Compensation—December 2023 for State and local government. The hourly wage rate used is $37.53 + overhead of 38%. Total burdened wage rate is $60.56 ($37.53 + $23.03).

³ Totals may not add up due to rounding.

Total Estimated Annual Burden: 350 hours.

Total Estimated Annual Burden Hour Dollar Cost Equivalent: $21,196.

FRA informs all interested parties that it may not conduct or sponsor, and a respondent is not required to respond to, a collection of information that does not display a currently valid OMB control number.

Authority: 44 U.S.C. 3501-3520.

Christopher S. Van Nostrand,
Deputy Chief Counsel.

[FR Doc. 2024-17189 Filed 8-2-24; 8:45 am]

BILLING CODE 4910-06-P